DEPARTMENT OF ENERGY

Federal Energy Regulatory Commission

[Docket No. CP09-25-000]

New Mexico Gas Company, Inc.; Public Service Company of New Mexico; Notice of Application To Transfer Natural Gas Act Section 3 Authorization and Presidential Permit

December 3, 2008.

On November 21, 2008, New Mexico Gas Company, Inc. (New Mexico Gas) and Public Service Company of New Mexico (PNM) filed a joint application in Docket No. CP09-25-000 pursuant to section 3 of the Natural Gas Act (NGA) and section 153 of the Commission's Regulations and Executive Order No. 10485, as amended by Executive Order No. 12038, and the Secretary of Energy's Delegation Order No. 00-004.00A, effective May 16, 2006, seeking authorization to transfer PNM's existing NGA section 3 authorization and Presidential Permit ¹ to New Mexico Gas, all as more fully set forth in the application which is on file with the Commission and open to the public for inspection. This filing is available for review at the Commission or may be viewed on the Commission's Web site at http://www.ferc.gov, using the “eLibrary” link. Enter the docket number excluding the last three digits in the docket number field to access the document. For assistance, please contact FERC Online Support at FERCOnlineSupport@ferc.gov or toll-free at (866) 208-3676, or for TTY, contact (202) 502-8659.

¹ 64 FERC ¶ 61,226 (1993).

Any questions regarding the application may be directed to: Carol Gosain, Steptoe & Johnson LLP, 1330 Connecticut Avenue, NW., Washington, DC 20036, telephone (202) 429-6461, facsimile (202) 261-0614, or e-mail cgosain@steptoe.com (counsel for New Mexico Gas Company, Inc.) or M. Lisanne Crowley, Troutman Sanders LLP, 401 Ninth Street, NW., Suite 1000, Washington, DC 20004, telephone (202) 274-2814, facsimile (202) 274-2814, or e-mail lisanne.crowley@troutmansanders.com (counsel for Public Service Company of New Mexico).

Specifically, New Mexico Gas and PNM request the Commission to issue an order: (1) Transferring PNM's NGA section 3 authorization and Presidential Permit to New Mexico Gas for the construction, operation, and maintenance of facilities which would be used to export natural gas at the International Border between Santa Teresa, Dona Ana County, New Mexico, and the State of Chihuahua, Mexico; and (2) authorizing the assignment of PNM's August 6, 1993, Presidential Permit to New Mexico Gas for the operation and maintenance of facilities at the Chihuahua, Mexico/New Mexico, export point for the purpose of exporting and importing natural gas between the United States and Mexico.

The proposed export facilities consist of (1) A meter station near the town of Santa Teresa, Dona Ana County, New Mexico, (2) approximately 150 feet of 8-inch diameter pipeline in a 50-foot wide right-of-way, and (3) a delivery point at the crossing of the International Boundary Line between Dona Ana County, New Mexico, and the State of Chihuahua, Mexico.

New Mexico Gas states that it anticipates the service it would provide via the border crossing facilities would be exempt from the provisions of the NGA pursuant to section 1(c). In the event that New Mexico Gas uses the subject border facilities to import, as opposed to export, natural gas, its transportation of such gas would either be exempt from the provisions of the NGA pursuant to section 1(c) or it would be provided pursuant to Section 284.224 of the Commission's regulations and New Mexico Gas's limited jurisdiction blanket certificate issued in Docket No. CP08-393-000.²

² 124 FERC ¶ 61,194 (2008).

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the internet in lieu of paper. See 18 CFR 385.2001(a)(1)(iii) and the instructions on the Commission's Web site (http://www.ferc.gov) under the “e-Filing” link.

Comment Date: December 24, 2008.

Kimberly D. Bose,
Secretary.

[FR Doc. E8-29348 Filed 12-10-08; 8:45 am]

BILLING CODE 6717-01-P